DEPARTMENT OF DEFENSE

GENERAL SERVICES ADMINISTRATION

NATIONAL AERONAUTICS AND SPACE ADMINISTRATION

48 CFR Part 29

[FAC 2001-22; FAR Case 2003-020; Item V]

RIN 9000-AJ89

Federal Acquisition Regulation; New Mexico Tax—United States Missile Defense Agency

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to incorporate the Missile Defense Agency (MDA), as a participating agency within the terms and conditions stipulated in the FAR.

DATES: Effective Date: April 5, 2004.

FOR FURTHER INFORMATION CONTACT: The FAR Secretariat at (202) 501-4755 for information pertaining to status or publication schedules. For clarification of content, contact Mr. Edward Loeb, Policy Advisor, at (202) 501-0650. Please cite FAC 2001-22, FAR case 2003-020.

SUPPLEMENTARY INFORMATION:

A. Background

This final rule amends FAR 29.401-4(c), to include the Missile Defense Agency in the list of agencies that have entered into an agreement with the State of New Mexico to eliminate the double taxation of Government cost-reimbursement contracts when contractors and their subcontractors purchase tangible personal property to be used in the performance of services in the State of New Mexico and for which title to such property will subsequently pass to the United States upon delivery of the property to the contractor and its subcontractor by the vendor.

This is not a significant regulatory action and, therefore, was not subject to review under Section 6(b) of Executive Order 12866, Regulatory Planning and Review, dated September 30, 1993. This rule is not a major rule under 5 U.S.C. 804.

B. Regulatory Flexibility Act

The Regulatory Flexibility Act does not apply to this rule. This final rule does not constitute a significant FAR revision within the meaning of FAR 1.501 and Public Law 98-577, and publication for public comments is not required. However, the Councils will consider comments from small entities concerning the affected FAR Part 29 in accordance with 5 U.S.C. 610. Interested parties must submit such comments separately and should cite 5 U.S.C. 601, et seq. (FAC 2001-22, FAR case 2003-020), in correspondence.

C. Paperwork Reduction Act

The Paperwork Reduction Act does not apply because the changes to the FAR do not impose information collection requirements that require the approval of the Office of Management and Budget under 44 U.S.C. 3501, et seq.

List of Subjects in 48 CFR Part 29

Government procurement.

Dated: March 26, 2004.
Laura Auletta,
Director, Acquisition Policy Division.

Therefore, DoD, GSA, and NASA amend 48 CFR part 29 as set forth below:

PART 29—TAXES

1. The authority citation for 48 CFR part 29 is revised to read as follows:

Authority: 40 U.S.C. 121(c); 10 U.S.C. chapter 137; and 42 U.S.C. 2473(c).

29.401-4 [Amended]

2. Amend section 29.401-4 in the list following paragraph (c)(1) by—

a. Removing “United States Defense Special Weapons Agency” and adding “United States Defense Threat Reduction Agency” in its place;

b. Removing “and” after “United States General Services Administration;”; and

c. Adding, in alphabetical order, “United States Missile Defense Agency; and”.

[FR Doc. 04-7409 Filed 4-2-04; 8:45 am]

BILLING CODE 6820-EP-P